DEPARTMENT OF COMMERCE

International Trade Administration

[C-560-829]

Certain Uncoated Paper From Indonesia: Amended Final Results of Countervailing Duty Administrative Review; 2015-2016

AGENCY: Enforcement and Compliance, International Trade Administration, Department of Commerce.

SUMMARY: The Department of Commerce (Commerce) is amending its final results of the administrative review of the countervailing duty (CVD) order on certain uncoated paper from Indonesia to correct ministerial errors in the calculation of the countervailable subsidy rates for PT Anugrah Kertas Utama, PT Riau Andalan Kertas, APRIL Fine Paper Macao Commercial Offshore Limited, and their cross-owned affiliates (collectively APRIL). As a result of the correction of these errors, we calculated a revised subsidy rate for APRIL for 2015; however we did not revise APRIL's subsidy rate for 2016. The amended final 2015 countervailable subsidy rate is listed below in the section entitled, “Amended Final Results.”

DATES: Applicable November 14, 2018.

FOR FURTHER INFORMATION CONTACT: David Goldberger or Darla Brown, AD/CVD Operations, Office II, Enforcement and Compliance, International Trade Administration, U.S. Department of Commerce, 1401 Constitution Avenue NW, Washington, DC 20230; telephone: (202) 482-4136 or 202-482-1791, respectively.

SUPPLEMENTARY INFORMATION:

Background

On October 17, 2018, Commerce published the Final Results of the 2015-2016 administrative review in the Federal Register.¹ On October 16, 2018, domestic interested parties ² timely filed ministerial error allegations with respect to the calculation of the countervailable subsidy rates in the Final Results for the respondent in the review, APRIL.³

¹ See Certain Uncoated Paper From Indonesia: Final Results of Countervailing Duty Administrative Review; 2015-2016, 83 FR 52383 (October 17, 2018) (Final Results), and accompanying Issues and Decision Memorandum (IDM).

² These parties are the Packaging Corporation of America (PCA), and the United Steel, Paper and Forestry, Rubber, Manufacturing, Energy, Allied Industrial and Service Workers International Union, AFL-CIO, CLC (USW).

³ See The Domestic Interested Parties' Letter, “First Administrative Review of the Countervailing Duty Order on Uncoated Paper from Indonesia—PCA and the USW's Ministerial Error Comments,” dated October 16, 2018 (Ministerial Error Allegation).

Scope of the Order

The merchandise covered by the order is certain uncoated paper from Indonesia.⁴ Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope is dispositive.

⁴ For a complete description of the scope of the order, see IDM.

Ministerial Error

Section 751(h) of the Tariff Act of 1930, as amended (the Act), defines “ministerial errors” as including “errors in addition, subtraction, or other arithmetic function, clerical errors resulting from inaccurate copying, duplication, or the like, and any other type of unintentional error which the administering authority considers ministerial.” ⁵ The domestic interested parties allege that we made ministerial errors in our calculation of the 2015 and 2016 countervailable subsidy rates for APRIL by: (1) Correcting the freight adjustments for one of the benchmark prices used to calculate the 2015 Log Export Ban benefit; (2) correcting the inland freight adjustments for two benchmark prices used to calculate the 2015 and 2016 Provision of Standing Timber for Less Than Adequate Remuneration (Stumpage) benefit; and (3) incorporating all of the revised 2015 harvesting cost data provided at verification to calculate the benefit under the Stumpage program.⁶ After analyzing these comments, we find that we made the alleged ministerial errors in the Final Results, within the meaning of section 751(h) of the Act and 19 CFR 351.224(f).⁷ Correction of these errors in APRIL's benefit calculations results in a revised countervailable subsidy rate for 2015, but no change in the 2016 countervailable subsidy rate. For a detailed discussion of these ministerial errors, see the Ministerial Error Memorandum.

⁵ See also 19 CFR 351.224(f).

⁶ See Ministerial Error Allegation.

⁷ See Memorandum, “Ministerial Error Allegations,” dated concurrently with this notice (Ministerial Error Memorandum).

Amended Final Results of the Review

As a result of correcting the ministerial errors decribed above, we determine the following countervailable subsidy rates for 2015 and 2016:

Company | 2015 Ad valorem rate (%) | 2016 Ad valorem rate ⁸ (%)
APRIL Fine Paper Macao Commercial Offshore Limited/PT Anugrah Kertas Utama/PT Riau Andalan Kertas/PT Intiguna Primatama/PT Riau Andalan Pulp & Paper/PT Esensindo Cipta Cemerlang/PT Sateri Viscose International/ PT ITCI Hutani Manunggal | 11.73 | 5.13

Assessment Rates

In accordance with 19 CFR 351.212(b)(2), Commerce intends to issue appropriate instructions to U.S. Customs and Border Protection (CBP) in accordance with the amended final results of this review.

⁸ The 2016 ad valorem rate for APRIL is unchanged from the Final Results.

Cash Deposit Requirements

Commerce instructed CBP to collect cash deposits of estimated countervailing duties at the 2016 ad valorem rate shown above for APRIL, on shipments of subject merchandise entered, or withdrawn from warehouse, for consumption on or after the date of publication of the final results of this review. After correcting the ministerial errors noted above, the 2016 ad valorem rate calculated for APRIL did not change; therefore, we will not issue revised cash deposit intructions to CBP because the cash deposit rate for APRIL remains unchanged from the Final Results.

For all non-reviewed firms, Commerce instructed CBP to continue to collect cash deposits at the most recent company-specific or all-others rate applicable to the company, as appropriate. Accordingly, the cash deposit requirements applied to companies covered by this order, but not examined in this administrative review, are those established in the most recently completed segment of the proceeding for each company. These cash deposit requirements shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These amended final results are issued and published in accordance with sections 751(h) and 777(i) of the Act and 19 CFR 351.224(e).

Dated: November 7, 2018.
James Maeder,
Associate Deputy Assistant Secretary for Antidumping and Countervailing Duty Operations performing the duties of Deputy Assistant Secretary for Antidumping and Countervailing Duty Operations.

[FR Doc. 2018-24800 Filed 11-13-18; 8:45 am]

BILLING CODE 3510-DS-P